DEPARTMENT OF ENERGY

Electric Vehicle Working Group

AGENCY: Department of Energy.

ACTION: Notice of open meeting.

SUMMARY: The Department of Energy hereby publishes a notice of open meetings of the Electric Vehicle Working Group (EVWG). The Federal Advisory Committee Act requires that public notice of these meetings be announced in the Federal Register.

DATES: Thursday, January 30, 2025; 3 to 5 p.m. EST. Start and end times may change. Please visit https://driveelectric.gov/ev-working-group for the most up to date agenda.

ADDRESSES: This meeting will be held virtually. Members of the public who would like to participate virtually must register at: https://driveelectric.gov/ev-working-group.

FOR FURTHER INFORMATION CONTACT: Dr. Rachael Nealer, Designated Federal Officer, U.S. Department of Energy, 1000 Independence Avenue SW, Washington, DC 20585; email: evwg@ee.doe.gov; phone: (202) 586-3916.

SUPPLEMENTARY INFORMATION:

Purpose of the Board: The Electric Vehicle Working Group (EVWG) was formed by the Joint Office of Energy and Transportation to make recommendations to the Secretaries of Energy and Transportation regarding the development, adoption, and integration of light-, medium-, and heavy-duty electric vehicles (EVs) into the U.S. transportation and energy systems.

Tentative Agenda: The tentative agenda for this meeting is a discussion of next steps for the EVWG, including schedule and proposed deliverables. There will also be a discussion on the current subcommittee structure and whether modifications should be made based on upcoming work. Meeting materials and a link to registration can be found here: https://driveelectric.gov/ev-working-group.

Public Participation: This virtual meeting is open to the public. Individuals who would like to attend must register at: https://driveelectric.gov/ev-working-group.

Individuals and representatives of organizations who would like to offer comments and suggestions may do so during the public comment portion of the meeting. Approximately 20 minutes will be reserved for public comments. Time allotted per speaker will depend on the number who wish to speak but will not exceed three minutes. The Designated Federal Officer is empowered to conduct the meeting in a fashion that will facilitate the orderly conduct of business. Those wishing to speak during the public comment period should indicate so within their registration.

Those not able to attend the meeting or who have insufficient time to address the committee are invited to send a written statement to Dr. Rachael Nealer, U.S. Department of Energy, 1000 Independence Avenue SW, Washington, DC 20585, or email: evwg@ee.doe.gov.

Minutes: The minutes of the meeting will be available on https://driveelectric.gov/ev-working-group or by contacting Dr. Nealer. She may be reached at the above postal address or email address.

Signing Authority: This document of the Department of Energy was signed on January 3, 2025, by Alyssa Petit, Deputy Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 3, 2025.
Jennifer Hartzell,
Alternate Federal Register Liaison Officer, U.S. Department of Energy.

[FR Doc. 2025-00219 Filed 1-7-25; 8:45 am]

BILLING CODE 6450-01-P